DEPARTMENT OF AGRICULTURE

Agricultural Marketing Service

7 CFR Part 927

[Doc. No. AMS-SC-22-0089]

Pears Grown in Oregon and Washington; Continuance Referendum

AGENCY: Agricultural Marketing Service, USDA.

ACTION: Referendum order; correction.

SUMMARY: The Agricultural Marketing Service, USDA, published a document in the Federal Register of April 7, 2023, that directed a referendum be conducted among eligible Oregon and Washington pear growers to determine whether they favor continuance of the marketing order regulating the handling of pears grown in Oregon and Washington. This correction addresses errors regarding certain dates contained in the narrative of the referendum order.

DATES: Effective April 27, 2023.

FOR FURTHER INFORMATION CONTACT: Dale Novotny, Marketing Specialist, or Gary Olson, Chief, Western Region Branch, Market Development Division, Specialty Crops Program, Agricultural Marketing Service, USDA, 1220 SW 3rd Avenue, Suite 305, Portland, Oregon 97212; Telephone: (503) 326-2724, or Email: DaleJ.Novotny@usda.gov or GaryD.Olson@usda.gov.

SUPPLEMENTARY INFORMATION: In FR Doc 2023-07396, appearing on page 20780 in the Federal Register of Friday, April 7, 2023, in the second column, first paragraph, correct the referendum dates “March 20 to March 31, 2023” to read “May 8 to May 30, 2023”. In addition, on page 20780, in the second column, third paragraph, correct the date “March 31, 2023” to read “May 30, 2023”.

Erin Morris,
Associate Administrator, Agricultural Marketing Service.

[FR Doc. 2023-08911 Filed 4-26-23; 8:45 am]

BILLING CODE P